NATIONAL FOUNDATION ON THE ARTS AND THE HUMANITIES

National Endowment for the Humanities

Index of Guidance Documents (Executive Order 13891)

AGENCY: National Endowment for the Humanities; National Foundation on the Arts and the Humanities.

ACTION: Notice of availability.

SUMMARY: The National Endowment for the Humanities (“NEH”) is issuing this notice to announce that NEH has established on its website a portal where it will maintain a single, searchable, indexed database that contains or links to all guidance documents in effect from NEH.

DATES: The portal is available as of February 28, 2020.

ADDRESSES: The portal is available at: www.neh.gov/guidance.

FOR FURTHER INFORMATION CONTACT: Michael McDonald, General Counsel, 400 7th Street SW, Room 4060, Washington, DC 20506; (202) 606-8322; gencounsel@neh.gov.

SUPPLEMENTARY INFORMATION: Executive Order (“E.O.”) 13891 requires each agency to “establish or maintain on its website a single, searchable, indexed database that contains or links to all guidance documents” from that agency. This portal must also note that “guidance documents lack the force and effect of law, except as authorized by law or as incorporated into a contract.” NEH has established the website portal, and posted the requisite information about guidance documents, at www.neh.gov/guidance. At this time, NEH does not have in effect any guidance documents as defined by E.O. 13891. In accordance with E.O. 13891, however, NEH will not issue a guidance document without including it in the portal.

Dated: February 28, 2020.
Caitlin Cater,
Attorney-Advisor, National Endowment for the Humanities.

[FR Doc. 2020-04477 Filed 3-4-20; 8:45 am]

BILLING CODE 7536-01-P